DEPARTMENT OF THE INTERIOR

Bureau of Land Management

[UT-045-1040-ET; UTU-74938]

Public Land Order No. 7460; Withdrawal of Federal Mineral Estate Within the Red Cliffs Desert Reserve; Utah

AGENCY: Bureau of Land Management, Interior.

ACTION: Public land order.

SUMMARY: This order withdraws approximately 40,550 acres of Federal mineral estate from location and entry under the United States mining laws for 20 years for the Bureau of Land Management to protect Mojave Desert Tortoise habitat within the Red Cliffs Desert Reserve. Additional non-Federal mineral estate within the boundaries of the Red Cliffs Desert Reserve would become subject to the withdrawal if acquired by the United States.

EFFECTIVE DATE: August 10, 2000.

FOR FURTHER INFORMATION CONTACT: Randy Massey, BLM St. George Field Office, 345 East Riverside Drive, St. George, Utah 84790, 435-688-3274.

By virtue of the authority vested in the Secretary of the Interior by Section 204 of the Federal Land Policy and Management Act of 1976, 43 U.S.C. 1714 (1994), it is ordered as follows:

1. Subject to valid existing rights, the Federal mineral estate in the following described lands is hereby withdrawn from location and entry under the United States mining laws (30 U.S.C. Ch. 2 (1994)), to protect Mojave Desert Tortoise habitat within the Red Cliffs Desert Reserve:

Salt Lake Meridian

T. 41 S., R. 13 W.,

Sec. 17, lot 3, lots 5 to 8, inclusive, SE¼NW¼, NE¼SW¼, S½SW¼, and SE¼;

Sec. 18, lots 2, 7, 8, lots 19 to 23, inclusive, west 10.486 chains of lot 24, lots 25 and 26, W½NE¼, E½NW¼, W½SE¼, and SE¼SE¼;

Sec. 19, lots 1 to 11, inclusive, lots 13 to 18, inclusive, N½NE¼, and SW¼NE¼;

Sec. 20, lots 1 and 2, E½, E½W½, NW¼NW¼, and SW¼SW¼;

Sec. 21, lots 1 to 4, inclusive, W½E½, and W½;

Sec. 22, lots 2, 3, 8, and 9, and SW¼SW¼;

Sec. 27, NW¼NE¼, NW¼, and NE¼SW¼;

Sec. 28, N½NE¼NE¼, NE¼SW¼NE¼NE¼, E½SE¼SW¼NE¼NE¼, and SE¼NE¼NE¼;

Sec. 29, lots 1 and 5, N½N½, N½SW¼NE¼, N½SW¼SW¼NE¼, N½SE¼SW¼NE¼, SE¼SE¼SW¼NE¼, SW¼NW¼, N½SE¼NW¼, and N½NW¼NE¼SE¼;

Sec. 30, lots 2, 3, 4, lots 13 to 18, inclusive, lot 21, and SE¼NE¼.

T. 41 S., R. 14 W.,

Sec. 13, SE¼NE¼, S½S½, and NE¼SE¼;

Sec. 15, lots 1 to 8, inclusive, W½E½, and W½;

Sec. 17, E½, SE¼NW¼, and SW¼;

Sec. 18, lots 7 and 8, SE¼SW¼, and S½SE¼;

Sec. 19, lots 1 to 8, inclusive, E½, and E½W½; secs. 20 and 21;

Sec. 22, lots 1 to 8, inclusive, W½E½, and W½;

Sec. 23, W½SW¼, embracing that portion of land west of the Interstate 15 corridor;

Sec. 24, N½, NE¼SW¼, N½NW¼SW¼, NE¼SW¼NW¼SW¼, E½SE¼SW¼, and SE¼;

Sec. 25, lots 1, 2, 7, 8, 9, and 10, SW¼NE¼, E½NE¼SW¼, E½W½SE¼SW¼, E½SE¼SW¼, and W½SE¼;

Sec. 26, lot 4, embracing that portion of land west of the Interstate 15 corridor;

Sec. 27, lots 1 to 9, inclusive, N½NE¼, SE¼NE¼, SE¼SW¼, and SW¼SE¼, embracing that portion of land west of the Interstate 15 corridor; secs. 28 and 29;

Sec. 30, lots 1 to 8, inclusive, E½, and E½W½;

Sec. 34, N½NW¼, and SW¼NW¼, embracing that portion of land north and west of the Interstate 15 corridor.

T. 41 S., R. 15 W.,

Sec. 13, W½ and SE¼;

Sec. 14;

Sec. 15, lots 1 to 4, inclusive, E½, and E½W½;

Sec. 16, lots 1 to 4, inclusive, and S½S½;

Sec. 17, lots 1 to 4, inclusive, N½, and S½S½;

Sec. 18, lots 1 to 9, inclusive, NE¼, E½NW¼, and NE¼SW¼;

Sec. 19, lots 1 to 4, inclusive, E½, and E½W½;

Sec. 20, E½, NW¼, N½SW¼, and SW¼SW¼SW¼;

Secs. 21 to 25, inclusive;

Sec. 26, N½ and SE¼;

Sec. 27, N½ and SW¼;

Sec. 28;

Sec. 29, NE¼, S½NE¼NE¼NW¼, SE¼NW¼NE¼NW¼, E½SW¼NE¼NW¼, SE¼NE¼NW¼, E½SE¼NW¼, E½W½SE¼NW¼, NE¼SW¼, SE¼NW¼SW¼, SW¼SW¼, SE¼SW¼, and SE¼;

Sec. 30, lots 1 to 4, inclusive, W½E½, SE¼NE¼, E½W½, and E½SE¼;

Sec. 31, lots 1 to 4, inclusive, E½, and E½W½;

Secs. 32 and 33;

Sec. 34, NW¼.

T. 42 S., R. 15 W.,

Sec. 6, lots 1 to 7, inclusive, S½NE¼, SE¼NE¼, SE¼NW¼, E½SW¼, and SE¼;

Sec. 7, lots 1 to 4, inclusive, and E½W½;

Sec. 17, lots 7, 9, and 10;

Sec. 20, NW¼SW¼, and W½NW¼.

T. 41 S., R. 16 W.,

Sec. 5, lots 1 to 11, inclusive, SW¼NE¼, S½NW¼, SW¼, and W½SE¼;

Sec. 6, lots 1 to 11, inclusive, S½NE¼, SE¼NW¼, E½SW¼, and SE¼;

Sec. 7, lots 1 to 4, inclusive, E½, and E½W½;

Sec. 8, lots 1 to 4, inclusive, W½E½, and W½;

Sec. 10, lot 4;

Sec. 11, lots 1 and 4, E½, and SE¼NW¼;

Sec. 12;

Sec. 13, lots 1 to 8, inclusive, S½N½, and S½;

Sec. 14, lots 1, 2, 7, and 8, S½N½, and NE¼SE¼;

Sec. 15, E½NE¼;

Sec. 17, lots 1 to 4, inclusive, W½E½, and W½;

Sec. 18, lots 1 to 4, inclusive, E½, and E½W½;

Sec. 19, lots 1 to 4, inclusive, E½, and E½W½;

Sec. 20;

Sec. 21, W½;

Sec. 24, E½, E½NW¼, NE¼SW¼, N½SE¼SW¼, and SE¼SE¼SW¼;

Sec. 25, E½, E½NE¼NW¼, SW¼NE¼NW¼, SE¼NW¼, SE¼NW¼SW¼, SW¼SW¼, and E½SW¼;

Sec. 29;

Sec. 30, lot 1, NE¼, and E½SE¼;

Sec. 31, NE¼NE¼;

Sec. 36.

T. 42 S., R. 16 W.,

Sec. 1, lots 1 to 4, inclusive, S½N½, and S½;

Sec. 3, lot 1, SE¼NE¼, and NE¼SE¼;

Sec. 11, SW¼NE¼, E½SE¼NE¼, N½NW¼, SW¼NW¼, SE¼NW¼, NE¼SW¼, SE¼SW¼, W½SE¼, and SE¼SE¼;

Sec. 12, N½, E½SW¼, and SE¼;

Sec. 14, N½NE¼ and NE¼NE¼NW¼.

T. 41 S., R. 17 W.,

Sec. 1, lots 1 to 12, inclusive, and S½;

Secs. 12 and 13;

Sec. 24, N½N½, SW¼NE¼, and SE¼NW¼.

The areas described aggregate approximately 40,550 acres in Washington County.

2. All mineral estate acquired in the future by the United States within the boundaries of the Red Cliffs Desert Reserve as depicted on the Red Cliffs Desert Reserve map maintained in the St. George BLM Field Office, will be subject to the terms and conditions of this withdrawal as described in Paragraph 1.

3. This withdrawal will expire 20 years from the effective date of this order unless, as a result of a review conducted before the expiration date pursuant to Section 204(f) of the Federal Land Policy and Management Act of 1976, 43 U.S.C. 1714(f) (1994), the Secretary determines that the withdrawal shall be extended.

Dated: July 25, 2000.
Sylvia V. Baca,
Assistant Secretary of the Interior.

[FR Doc. 00-20286 Filed 8-9-00; 8:45 am]

BILLING CODE 4310-DQ-P